DEPARTMENT OF HOUSING AND URBAN DEVELOPMENT

[Docket No. FR-5316-N-01]

Mortgagee Review Board; Administrative Actions

AGENCY: Office of the Assistant Secretary for Housing-Federal Housing Commissioner, Department of Housing and Urban Development (HUD).

ACTION: Notice.

SUMMARY: In compliance with Section 202(c) of the National Housing Act, this notice advises of the cause and description of administrative actions taken by HUD's Mortgagee Review Board against HUD-approved mortgagees.

FOR FURTHER INFORMATION CONTACT: Julie A. Shaffer, Acting Secretary to the Mortgagee Review Board, 451 Seventh Street, SW., Room B-133 (Portals 200), Washington, DC 20410-8000; telephone: (215) 861-7216. A Telecommunications Device for Hearing- and Speech-Impaired Individuals (TTY) is available at (800) 877-8339 (Federal Information Relay Service).

SUPPLEMENTARY INFORMATION: Section 202(c)(5) of the National Housing Act (added by Section 142 of the Department of Housing and Urban Development Reform Act of 1989, Pub. L. 101-235, approved December 15, 1989), requires that HUD “publish a description of and the cause for administrative action against a HUD-approved mortgagee” by the Department's Mortgagee Review Board (Board). In compliance with the requirements of Section 202(c)(5), this notice advises of administrative actions that have been taken by the Board from November 8, 2007 to March 12, 2009.

I. Settlement Agreements, Civil Money Penalties, Withdrawal of FHA Approval, Suspensions, Probations, Reinstatement and Reprimand

1. AAA Worldwide Financial Company, Addison, TX [Docket No. 07-7023-MR]

Action: Settlement Agreement signed March 4, 2009. Without admitting liability or fault, AAA Worldwide Financial Company (AAA) agreed to: Pay HUD $115,000; buy-down two HUD/FHA-insured mortgages totaling $19,982; indemnify HUD/FHA for losses up to $20,144 on three loans; and indemnify HUD/FHA for any losses which have been or may be incurred on five other loans, if they were in default, or go into default from the endorsement date of each loan, through and up to five years from the effective date of the settlement agreement.

Cause: The Board took this action based on the following violations of HUD/FHA requirements in which AAA: Failed to implement a Quality Control Plan in compliance with HUD/FHA requirements; failed to separate Up-Front Mortgage Insurance Premium (UFMIP) funds from operating funds, and failed to remit UFMIP to HUD/FHA within ten calendar days of the later of closing or disbursement; failed to submit loans for endorsement in a timely manner and falsely certified that loans were current when submitted for endorsement; failed to ensure that the maximum mortgage amount was properly calculated resulting in over-insured mortgages; failed to properly verify the source of funds for the earnest money deposits, gift funds and/or adequacy of funds for the cash requirements; failed to ensure Construction-Permanent Mortgage Program requirements were met; and allowed non-employees to originate and process HUD/FHA loans.

2. Academy Mortgage, LLC, Catonsville, MD [Docket No. 07-7039-MR]

Action: Settlement Agreement signed March 12, 2009. Without admitting liability or fault, Academy Mortgage, LLC, (Academy) agreed to pay HUD a civil money penalty in the amount of $18,500.

Cause: The Board took this action based on the following violations of HUD/FHA requirements in which Academy: Permitted non-approved brokers to originate Home Equity Conversion Mortgage (HECM) loans in violation of HUD/FHA requirements; and failed to comply with HUD/FHA housing counseling referral requirements during the origination of HECM loans.

3. Birmingham Bancorp Mortgage Corporation, West Bloomfield, MI [Docket No. 08-8017-MR]

Action: Settlement Agreement signed August 20, 2008. Without admitting liability or fault, Birmingham Bancorp Mortgage Corporation (Birmingham) agreed to pay HUD $3,000 in administrative payment.

Cause: The Board took this action based on the following violation of HUD/FHA requirements in which Birmingham: Failed to verify the borrower's income from child support by providing a copy of the mortgagor's divorce decree and evidence of her receipt of payment of child support for the most recent twelve-month period.

4. BSM Financial, LP, dba Banksource Mortgage, Allen, TX [Docket No. 05-5047-MR]

Action: In a letter dated January 16, 2009, the Board permanently withdrew BSM Financial, LP's (BSM), HUD/FHA approval.

Cause: The Board took this action because BSM breached the settlement agreement entered into with the Department on October 4, 2006, by failing to remit its first installment payment.

5. Colban Funding, Inc., Endwell, NY [Docket No. 04-4587-MR]

Action: Settlement Agreement signed December 14, 2007. The Board reinstated Colban Funding, Inc.'s (Colban) HUD/FHA approval (the Board terminated Colban's HUD/FHA approval on October 18, 2005). Colban agreed to pay HUD a civil money penalty in the amount of $15,000; and to indemnify HUD/FHA for its loss on one HUD/FHA-insured loan in the amount of $54,900.

Cause: The Board took this action based on the following violations of HUD/FHA requirements in which Colban: Failed to identify an approved loan correspondent's participation in one loan; used verification documents faxed from a third party; failed to analyze a prior sale adequately; failed to include installment debts that were nearing payment in full; failed to verify the source of a downpayment adequately; and failed to reconcile inaccuracies between HUD-1 Settlement Statement loan closing in nine cases.

6. Colony Mortgage Corporation, Fairview Park, OH [Docket No. 06-6032-MR]

Action: Settlement Agreement signed January 23, 2008. Without admitting liability or fault, Colony Mortgage Corporation (Colony) agreed to resolve the Board matter by: Paying HUD $214,000, consisting of an administrative payment in the amount of $12,000 and reimbursement of losses to HUD in the amount of $202,000 on five HUD/FHA-insured loans.

Cause: The Board took this action based on the following violations of HUD/FHA requirements in which Colony: Failed to ensure the borrowers met the minimum credit requirements and/or their credit was properly verified; and failed to verify income and/or stability of income properly.

7. Curry Mortgage Connection, LLC, Arlington, TX [Docket No. 09-9555-MR]

Action: In a letter dated January 9, 2009, the Board withdrew Curry Mortgage Connection, LLC's, (Curry), HUD/FHA approval for one year.

Cause: The Board took this action based on the following violations of HUD/FHA requirements in which Curry: Failed to submit the Executed Title II Yearly Verification Report; and failed to submit an acceptable audited financial statement(s) and supplementary reports through the Lender Assessment Sub-system (LASS).

8. Epix Funding Group, Inc., Brandon, FL [Docket No. 08-8031-MR]

Action: Settlement Agreement signed January 12, 2009. Epix Funding Group, Inc., (Epix) agreed to pay HUD a civil money penalty in the amount of $3,500. The Board also put Epix on six months probation.

Cause: The Board took this action based on the following violations of HUD/FHA requirements in which Epix: Used false and misleading advertisements on its corporate Webpage when it inappropriately displayed the official HUD seal, the FHA acronym, and advertised for the recruitment and establishment of prohibited branch arrangements.

9. Fidelity Home Mortgage Corporation, Baltimore, MD [Docket No. 08-8102-MR]

Action: In a letter dated October 8, 2008, the Board suspended Fidelity Home Mortgage Corporation's (Fidelity) HUD/FHA approval, pending further action by the Board.

Cause: The Board took this action Fidelity violated HUD/FHA by permitting indicted individuals to participate in HUD/FHA programs as an officer, partner, director, and/or principal, of Fidelity.

10. First Community Bank, Corpus Christi, TX [Docket No. 08-8074-MR]

Action: Settlement Agreement signed on November 21, 2008. Without admitting liability or fault, First Community Bank (First Community) agreed to make an administrative payment to HUD in the amount of $22,500.

Cause: The Board took this action based on the following violations of HUD/FHA requirements in which First Community: Hired and retained as a bank branch manager, an individual debarred by HUD; and submitted annual re-verification reports to HUD for 2007 and 2008, each containing a false certification stating First Community conformed to all HUD/FHA regulations necessary to maintain its HUD/FHA approval.

11. First Rate Capital Corporation, dba Axis Mortgage, Melville, NY [Docket No. 08-8030-MR]

Action: In a letter dated December 30, 2008, the Board placed First Rate Capital Corporation, dba, Axis Mortgage (First Rate), on 6 months probation, and imposed a civil money penalty in the amount of $3,500.

Cause: The Board took this action based on the following violation of HUD/FHA requirements in which First Rate: Used misrepresentative advertising when it used the HUD logo/seal on its business solicitations; and recruited for prohibited HUD/FHA branch arrangements.

12. Five Star Partnership, LLC, dba Five Star Mortgage, Henderson, NV [Docket No. 08-8044-MR and HUDALJ 09-F-026-MR-6]

Action: Settlement Agreement signed February 13, 2009. Five Star Partnership, LLC, dba Five Star Mortgage, (Five Star) agreed to pay HUD a civil money penalty in the amount of $15,000. On November 14, 2008, the Board issued a letter of reprimand to Five Star.

Cause: The Board took this action based on the following violations of HUD/FHA requirements in which Five Star: Submitted a false certification to HUD when it submitted its Yearly Verification Report for 2008; failed to comply with the condition for obtaining and/or maintaining HUD/FHA approval; violated the agreement, set forth in its application for approval, that it would comply with HUD/FHA regulations and requirements.

13. Gatewood Mortgage Corporation, Houston, TX [Docket No. 07-7040-MR]

Action: In a letter dated January 16, 2009, the Board permanently withdrew Gatewood Mortgage Corporation's (Gatewood) HUD/FHA approval. The Board also imposed a civil money penalty in the amount of $492,500. Gatewood's FHA approval was suspended by the Board on November 15, 2007, pending the results of a Quality Assurance Review that was in progress.

Cause: The Board took this action based on the following violations of HUD/FHA requirements in which Gatewood: Failed to comply with a condition of approval set forth on its FHA-approval application by submitting false information with respect to the ownership and officers of Gatewood; violated HUD/FHA eligibility requirements by employing and retaining a debarred individual as an officer, director, principal and/or employee of the mortgagee; submitted false information in connection with multiple business change notifications to HUD, an annual re-verification dated December 18, 2006, and an initial HUD/FHA approval application; submitted financial statements to HUD that were falsified and were not audited by a licensed certified public accountant for the fiscal years 2004, 2005 and 2006; violated HUD mortgagee employee and staffing requirements; permitted third parties to originate HUD/FHA insured mortgage loans and submitted false certifications on the HUD/VA Addendum to the URLA, Form HUD-92900-A; used the identity of individuals without their knowledge; and failed to properly document and/or provide sufficient documentation in connection with the source of funds required for closing.

14. Guardian Nationwide Mortgage, Inc., Dallas, TX [Docket No. 07-7004-MR]

Action: Settlement Agreement signed December 14, 2007. Without admitting liability or fault, Guardian Nationwide Mortgage, Inc., (Guardian) agreed to pay HUD a civil money penalty in the amount of $31,500.

Cause: The Board took this action based on the following violations of HUD/FHA requirements in the origination of HUD/FHA-insured loans in which Guardian: Failed to implement a Quality Control Plan in compliance with HUD/FHA requirements; allowed credit reports and other loan qualification documents to be handled and/or transmitted by or through the hands of a third party in violation of HUD/FHA requirements; and failed to report fraud discovered during a quality control review.

15. Hogar Mortgage and Financial Services, Inc., dba Colamerica, Montvale, NJ [Docket No. 08-8081-MR]

Action: In a letter dated January 16, 2009, the Board withdrew Hogar Mortgage and Financial Services', Inc., dba Colamerica (Hogar) HUD/FHA approval for five years, and imposed civil money penalty of $151,500.

Cause: The Board took this action based on the following violations of HUD/FHA requirements in which Hogar: Failed to resolve discrepancies and conflicting information when originating loans and/or obtaining mortgage insurance; failed to document the source and adequacy of funds for the downpayment, closing costs and/or cash reserves; and failed to implement a Quality Control Plan in compliance with HUD/FHA requirements.

16. Ideal Mortgage Bankers, Ltd., dba Lend America, Lending Key, Melville, NY [Docket No. 08-8032-MR]

Action: In a letter dated December 30, 2008, the Board placed Ideal Mortgage Bankers, dba Lend America, Lending Key (Ideal), on 6 month probation and imposed a civil money penalty in the amount of $6,500.

Cause: The Board took this action based on Ideal's violation of HUD/FHA requirements in which Ideal used misrepresentative advertising on a form designed to simulate an official Federal Government document.

17. McCue Mortgage Company, New Britain, CT [Docket No. 08-8018-MR]

Action: Settlement Agreement signed August 19, 2008. Without admitting liability or fault, McCue Mortgage Company (McCue) agreed to pay an administrative payment in the amount of $1,000.

Cause: The Board took this action based on the following violations of HUD/FHA requirements in which McCue: Failed to perform a mortgage credit analysis on the non-purchasing spouse who was added to the title and signed the mortgage security instrument at loan closing; and failed to ensure the loan closed in the same manner it was underwritten.

18. Mission Mortgage Corporation, Miramar, FL [Docket No. 07-7016-MR]

Action: In a letter dated November 19, 2007, the Board withdrew Mission Mortgage Corporation's (Mission), HUD/FHA approval for five years, and imposed a civil money penalty of $12,000.

Cause: The Board took this action based on the following violations of HUD/FHA requirements in the servicing of HUD/FHA-insured loans in which Mission: Failed to implement a Quality Control Plan in accordance with HUD/FHA requirements; and submitted false documentation or failed to verify the borrower's source and/or adequacy of funds for the closing costs.

19. Moneytree Mortgage Company, Lombard, IL [Docket No. 09-9328-MR]

Action: Settlement Agreement signed January 15, 2009. Without admitting liability or fault, Moneytree Mortgage Company (Moneytree) agreed to pay HUD an administrative payment in the amount of $1,000.

Cause: The Board took this action based on the following violations of HUD/FHA requirements in which Moneytree: Failed to submit an acceptable audited financial statement(s) and supplementary reports because Moneytree did not meet the net worth requirements.

20. Mortgage Investors Corporation, St. Petersburg, FL [Docket No. 07-7022-MR]

Action: Settlement Agreement signed August 24, 2008. Without admitting liability or fault, Mortgage Investors Corporation (Mortgage Investors) agreed to waive insurance benefits or indemnify HUD for any losses that have been or may be incurred from or in relation to 22 HUD/FHA-insured mortgages noted in the settlement agreement, including those that are in default or that go into default, for a period of 5 years from the endorsement date for each loan. The total amount due HUD for the indemnifications as of the effective date was $45,363. Mortgage Investors also agreed to make an administrative payment to HUD in the amount of $78,500.

Cause: The Board took this action based on the following violations of HUD/FHA requirements in which Mortgage Investors: Failed to implement a Quality Control Plan in accordance with HUD/FHA requirements; and improperly originated streamline refinance loans to borrowers whose mortgages were delinquent at the time of refinancing.

21. North Shore Financial, Inc., East Meadow, NY [Docket No. 09-9424-MR]

Action: In a letter dated January 15, 2009, the Board suspended North Shore Financial, Inc's. (North Shore) HUD/FHA approval, pending further action by the Board.

Cause: The Board took this action based on the following violations of HUD/FHA requirements in which North Shore: Retained, as owner and president, an individual who had been indicted for bank fraud in connection with mortgage loan originations; executed and submitted to HUD the Title II Yearly Verification Report that contained a false certification that none of North Shore's officers, principals, or owners were currently involved in a proceeding and/or investigation that could result, or has resulted in a criminal conviction; violated HUD/FHA's advertisement restrictions by sending multiple email solicitations stating that non-HUD/FHA approved lenders could use North Shore's HUD/FHA approval.

22. Orchid Island TRS, LLC, Paramus, NJ [Docket No. 09-9078-MR]

Action: In a letter dated January 16, 2009, the Board withdrew Orchid Island TRS, LLC's (Orchid Island) HUD/FHA approval for one year.

Cause: The Board took this action based on the following violations of HUD/FHA requirements in which Orchid Island failed to submit: The annual recertification fee; the Executed Yearly Verification Report; and an acceptable audited financial statement(s) and supplementary reports through LASS.

23. Prime Financial Group, Inc., Birmingham Farms, MI [Docket No. 09-9423-MR]

Action: In a letter dated January 15, 2009, the Board suspended Prime Financial Group, Inc.'s (Prime) HUD/FHA approval, pending further action by the Board.

Cause: The Board took this action based on the following violation of HUD/FHA requirements in which Prime: Breached the settlement agreement entered into with the Department on November 21, 2008, by failing to remit its first installment payment.

24. R & G Mortgage Corporation, Hato Rey, PR [HUD ALJ No. 07-052-MR and OGC Case No. 07-7033-MRT]

Action: Settlement Agreement signed May 15, 2008. Without admitting liability or fault, R&G Mortgage Corporation (R&G) agreed to pay HUD a civil money penalty in the amount of $10,000. R&G also agreed to submit its audited financial statements for fiscal years 2005, 2006, 2007 and 2008 according to the extended schedule outlined in the settlement agreement, and if R&G fails to submit to HUD/FHA any audited financial statement according to the schedule, R&G agreed to pay the Department $2,000 per month, or portion of a month, per audited financial statement until the statement is filed. Further, R&G agreed to submit a management certification of its financial condition for fiscal years 2007 and 2008 by the dates stated in the settlement agreement.

Cause: The Board took this action based on the following violation of HUD/FHA requirements in which R&G: Failed to submit acceptable audited annual financial statements within the required time period.

25. U.S. Bank NA (Multifamily), Minneapolis, MN [Docket No. 09-9441-MR]

Action: Settlement Agreement signed December 5, 2008. Without admitting liability or fault, U.S. Bank NA (US Bank) agreed to pay HUD $52,500.

Cause: The Board took this action based on the following violation of HUD/FHA requirements in which US Bank: Failed to comply with requirements regarding assignment of the mortgage.

26. Vega Financial, Inc., Las Vegas, NV [Docket No. 08-8043-MR]

Action: Settlement Agreement signed August 24, 2008. Without admitting liability or fault, Vega Financial, Inc. (Vega) agreed to make an administrative payment to the HUD in amount of $10,500.

Cause: The Board took this action based on the following violations of HUD/FHA requirements in which Vega: Submitted false certification to HUD/FHA when it submitted its FHA loan correspondent application; and violated the eligibility requirement prohibiting mortgagees' officers and principals from engaging in business practices that demonstrate irresponsibility when its president and sole owner failed to notify HUD's Office of Lender Activities that HUD had brought two administrative proceedings against him.

27. Wells Fargo Bank, N.A., Des Moines, IA [Docket No. 07-7014-MR]

Action: Settlement Agreement signed April 4, 2008. Without admitting liability or fault, Wells Fargo Bank, N.A. (Wells Fargo) agreed to pay HUD an administrative payment in the amount of $13,000.

Cause: The Board took this action based on the following violation of HUD/FHA requirements in which Wells Fargo: Allowed a debarred person to participate in a HUD/FHA mortgage insurance program.

28. Westar Mortgage Corporation, Albuquerque, NM [Docket No. 07-7029-MR]

Action: Settlement Agreement signed August 24, 2008. Without admitting liability or fault, Westar Mortgage Corporation (Westar) agreed to: make a payment to HUD in the amount of $50,000; refund $28,790 in interim construction fees to borrowers, and provide proof to HUD that fees were refunded; and indemnify HUD for any losses which have been or may be incurred on one loan stated in the settlement agreement.

Cause: The Board took this action based on the following violations of HUD/FHA requirements in which Westar: Failed to implement a Quality Control Plan in compliance with HUD/FHA requirements and failed to perform quality control review in 41 early defaults; charged unallowable fees; failed to obtain new construction documents required for loan eligibility; failed to properly verify, document, and/or calculate income; failed to ensure the mortgagor met the minimum credit requirements; failed to reconcile discrepancies found in the appraisal documents used to determine loan eligibility; failed to meet the requirements for late endorsement; failed to ensure that the maximum mortgage amount was properly calculated resulting in over-insured mortgages; failed to ensure Construction-Permanent Mortgage Program requirements were met; and allowed documents used to verify credit and income to pass through the hands of interested third parties, and allowed a non-employee to originate a HUD/FHA insured loan.

29. WR Starkey Mortgage, LLC, Plano, TX [Docket No. 07-7015-MR]

Action: Settlement Agreement signed April 4, 2008. Without admitting liability or fault, WR Starkey Mortgage, LLC (WR Starkey) agreed to waive all insurance benefits or indemnify HUD for any losses that have been or may be incurred from or in relation to seven HUD/FHA-insured mortgages listed in the settlement agreement, including those that are in default or that go into default, for a period of five years from the endorsement date for each loan. The total amount of the indemnification as of the effective date was $229,404.73. WR Starkey also agreed to make an administrative payment to HUD in the amount of $144,431.

Cause: The Board took this action based on the following violations of HUD/FHA requirements in which WR Starkey: Understated proposed housing payments in qualifying borrowers for new construction loans; approved two borrowers who had delinquent federal debts; closed loans in excess of the maximum allowable amounts resulting in over-insured mortgages; failed to ensure that Construction-Permanent Mortgage Program requirements were met; and allowed documentation used in the processing and/or underwriting of loans to pass through, be handled, and/or transmitted by an interested third party to the transaction.

30. WCS Lending, LLC, Boca Raton, FL [Docket No. 08-8040-MR]

Action: In a letter dated October 14, 2008, the Board placed WCS Lending, LLC (WCS Lending) on six months probation. Pursuant to the terms of the probation, WCS Lending was required to provide HUD, every 90 days, copies of all advertising that WCS Lending employed during the probationary term, including mail solicitations and electronic advertisements. The Board also imposed a civil money penalty on WCS Lending in the amount of $3,500.

Cause: The Board took this action based on the following violation of HUD/FHA requirements in which WCS Lending: Used misrepresentative advertising in soliciting the participation of non-FHA-approved mortgage brokers in the origination of HUD/FHA loans.

II. Lenders that Failed To Meet Requirements for Annual Recertification of HUD/FHA Approval.

A. Board Letters Issued January 9, 2009

Action: The Board issued a letter to each of the lenders listed below, withdrawing their HUD/FHA approval for one year.

Cause: The Board took this action based on the following violations of HUD/FHA requirements in which:

1. Alliance Mortgage Banking Corporation, Levittown, NY [Docket No. 09-9564-MR]—Failed to submit the annual recertification fee; the Executed Title II Yearly Verification Report; and an acceptable audited financial statement(s) and supplementary reports through LASS;

2. Allstate Residential Mortgage, Plymouth, MN [Docket No. 09-9025-MR]—Failed to submit the annual recertification fee; the Executed Yearly Verification Report; and an acceptable audited financial statement(s) and supplementary reports through LASS;

3. American Benefit Mortgage, Inc., Aliso Viejo, CA [Docket No. 09-9182-MR]—Failed to submit the annual recertification fee; the Executed Yearly Verification Report; and an acceptable audited financial statement(s) and supplementary reports through LASS;

4. Amerimortgage Bankers, LLC, Miami, FL [Docket No. 09-9026-MR]—Failed to submit the annual recertification fee; the Executed Yearly Verification Report; and an acceptable audited financial statement(s) and supplementary reports through LASS;

5. Amtrust Mortgage Corporation, Atlanta, GA [Docket No. 09-9565-MR]—Failed to submit the annual recertification fee; the Executed Title II Yearly Verification Report; and an acceptable audited financial statement(s) and supplementary reports through LASS;

6. Asset Mortgage of Hawaii, LLC, Honolulu, HI [Docket No. 09-9006-MR]—Failed to submit the annual recertification fee; the Executed Yearly Verification Report; and an acceptable audited financial statement(s) and supplementary reports through LASS;

7. Bankers Financial Mortgage Group, Ltd. [Docket No. 09-9162-MR]—Failed to submit the annual recertification fee; the Executed Yearly Verification Report; and an acceptable audited financial statement(s) and supplementary reports through LASS;

8. Bonterra Mortgage Services, Inc., Indian Trail, NC [Docket No. 09-9024-MR]—Failed to submit the annual recertification fee; the Executed Yearly Verification Report; and an acceptable audited financial statement(s) and supplementary reports through LASS;

9. Bray Mortgage, LLC, Grand Junction, CO [Docket No. 09-9083-MR]—Failed to submit the annual recertification fee; the Executed Yearly Verification Report; and an acceptable audited financial statement(s) and supplementary reports through LASS;

10. Capitol Mortgage Associates, Inc., Springfield, IL [Docket No. 09-9165 MR]—Failed to submit the annual recertification fee; the Executed Yearly Verification Report; and an acceptable audited financial statement(s) and supplementary reports through LASS;

11. Capital Pacific Mortgage Company, Modesto, CA [Docket No. 09-9566-MR]—Failed to submit the annual recertification fee; the Executed Title II Yearly Verification Report; and an acceptable audited financial statement(s) and supplementary reports through LASS;

12. Castle Mortgage Corporation, Uniontown, OH [Docket No. 09-9075-MR]—Failed to submit the annual recertification fee; the Executed Yearly Verification Report; and an acceptable audited financial statement(s) and supplementary reports through LASS;

13. C & G Financial Services, Upland, CA [Docket No. 09-9284-MR]—Failed to submit the annual recertification fee; the Executed Yearly Verification Report; and an acceptable audited financial statement(s) and supplementary reports through LASS;

14. Citizen First Financial, Inc., Tucker, GA [Docket No. 09-9192-MR]—Failed to submit the annual recertification fee; the Executed Yearly Verification Report; and an acceptable audited financial statement(s) and supplementary reports through LASS;

15. Collins Financial Group, Inc., Lake City, FL [Docket No. 09-9029-MR]—Failed to submit the annual recertification fee; the Executed Yearly Verification Report; and an acceptable audited financial statement(s) and supplementary reports through LASS;

16. Community Home Equities Corporation, Hillside, NJ [Docket No. 09-9126-MR]—Failed to submit the annual recertification fee; the Executed Yearly Verification Report and an acceptable audited financial statement(s) and supplementary reports through LASS;

17. Consumer Financial Counseling, Ltd, Dublin, OH [Docket No. 9567-MR]—Failed to submit the annual recertification fee; the Executed Title II Yearly Verification Report; and an acceptable audited financial statement(s) and supplementary reports through LASS;

18. CSI Residential Lending, Inc., Colleyville, TX [Docket No. 09-9230-MR]—Failed to submit the annual recertification fee; the Executed Yearly Verification Report; and an acceptable audited financial statement(s) and supplementary reports through LASS;

19. Custom Mortgage, LLC, Eagle, ID [Docket No. 09-9072-MR]—Failed to submit the annual recertification fee; Executed Yearly Verification Report; and an acceptable audited financial statement(s) and supplementary reports through LASS;

20. DFW Funding Solutions Dallas, LLC, Dallas, TX [Docket No. 09-9568-MR]—Failed to submit the annual recertification fee; an Executed Title II Yearly Verification Report; and an acceptable audited financial statement(s) and supplementary reports into LASS;

21. Financial Funding Services, Inc, Coral Gables, FL [Docket No. 09-9569-MR]—Failed to submit the annual recertification fee; the Executed title II Yearly Verification Report; and an acceptable audited financial statement(s) and supplementary reports through LASS;

22. First Choice Lenders Nationwide, LLC, Highland Village, TX [Docket No. 9570-MR]—Failed to submit the annual recertification fee; the Executed Title II Yearly Verification Report; and an acceptable audited financial statement(s) and supplementary reports through LASS;

23. Flower Bank, FSB, Chicago, IL [Docket No. 09-9113-MR]—Failed to submit the annual recertification fee; and the Executed Yearly Verification Report;

24. Focus Capital Group, Roanoke, IN [Docket No. 09-9034-MR]—Failed to submit an acceptable audited financial statement(s) and supplementary reports through LASS;

25. FRMC Financial, Inc., dba First Republic Mortgage Company, Annapolis, MD [Docket No. 09-9028-MR]—Failed to submit an acceptable audited financial statement(s) and supplementary reports through LASS;

26. Gibraltar Mortgage, LLC, Jacksonville, FL [Docket No. 09-9088-MR]—Failed to submit the annual recertification fee; the Executed Yearly Verification Report; and an acceptable audited financial statement(s) and supplementary reports through LASS;

27. Goodwill Mortgage Services, LLC, Hartford, CT [Docket No. 09-9571-MR]—Failed to submit the annual recertification fee; the Executed Title II Yearly Verification Report; and an acceptable audited financial statement(s) and supplementary reports through LASS;

28. Green Acres Mortgage, Inc., Spring Lake Park, MN [Docket No. 09-9114-MR]—Failed to submit an acceptable audited financial statement(s) and supplementary reports through LASS;

29. Greenway Lending Group, LLC, Washington, DC [Docket No. 09-9572-MR]—Failed to submit the annual recertification fee; the Executed Title II Yearly Verification Report; and an acceptable audited financial statement(s) and supplementary reports through LASS;

30. Guardian Loan Company of Massapequa, Inc., Clifton Park, NY [Docket No. 09-9573-MR]—Failed to submit the Executed Title II Yearly Verification Report; and an acceptable audited financial statement(s) and supplementary reports through LASS;

31. Hamlin Mortgage Company, Rochester Hills, MI [Docket No. 09-9574-MR]—Failed to submit the annual recertification fee; Executed Title II Yearly Verification Report; and an acceptable audited financial statement(s) and supplementary reports through LASS;

32. Heartland Home Finance, Inc., Downers Grove, IL [Docket No. 09-9224-MR]—Failed to submit the annual recertification fee; the Executed Yearly Verification Report; and an acceptable audited financial statement(s) and supplementary reports through LASS;

33. Homestead Mortgage Company, LLC, Columbus, OH [Docket No. 09-9015-MR]—Failed to submit the annual recertification fee; the Executed Yearly Verification Report; and an acceptable audited financial statement(s) and supplementary reports through LASS;

34. Hoosier Mortgage Trust, LLC, Anderson, IN [Docket No. 09-9023-MR]—Failed to submit the annual recertification fee; the Executed Yearly Verification Report; and an acceptable audited financial statement(s) and supplementary reports through LASS;

35. I/C Home Mortgage Services, Albuquerque, NM [Docket No. 09-9016-MR] -Failed to submit an acceptable audited financial statement (s) and supplementary reports through LASS;

36. IFG Mortgage, LLC, Coral Gables, FL [Docket No. 09-9008-MR]—Failed to submit an acceptable audited financial statement(s) and supplementary reports through LASS;

37. Infinity Residential Funding, Inc, Dallas TX [Docket No. 09-9575]—Failed to submit the annual recertification fee; the Executed Title II Yearly Verification Report; and an acceptable audited financial statement(s) and supplementary reports through LASS;

38. Island Creek Mortgage Corporation, Pawtucket, RI [Docket No. 09-9576-MR]—Failed to submit the annual recertification fee; the Executed Title II Yearly Verification Report; and an acceptable audited financial statement(s) and supplementary reports through LASS;

39. Legacy Home Mortgage, Inc., Palos Heights, IL [Docket No. 09-9017-MR]—Failed to submit the annual recertification fee; the Executed Yearly Verification Report; and an acceptable audited financial statement(s) and supplementary reports through LASS;

40. Lending Hand Mortgage, Inc., Green Bay, WI [Docket No. 09-9153-MR]—Failed to submit an acceptable audited financial statement(s) and supplementary reports through LASS;

41. L. S. Mortgage Solutions, Inc., Kingwood, TX [Docket No. 09-9577-MR]—Failed to submit the annual recertification fee; the Executed Title II Yearly Verification Report; and an acceptable audited financial statement(s) and supplementary reports through LASS;

42. Loan Center of California, Inc., Suisun City, CA [Docket No. 09-9578-MR]—Failed to submit the annual recertification fee; the Executed Title II Yearly Verification Report; and an acceptable audited financial statement(s) and supplementary reports through LASS;

43. Lownhome Financial Holdings, Inc. San Jose, CA [Docket No. 09-9579-MR]—Failed to submit the annual recertification fee; and the Executed Title II Yearly Verification Report;

44. Luxury Financial Group, Inc., Broomfield, CO [Docket No. 09-9164-MR]—Failed to submit an acceptable audited financial statement(s) and supplementary reports through LASS;

45. Mile High Banks, N.A., Denver, CO [Docket No. 09-9086-MR]—Failed to submit the annual recertification fee; and the Executed Yearly Verification Report;

46. Mortgage Plus Financial Corporation, Minneapolis, MN [Docket No. 09-9010-MR]—Failed to submit the annual recertification fee; the Executed Yearly Verification Report; and an acceptable audited financial statement(s) and supplementary reports through LASS;

47. New Horizons Mortgage Company, LLC [Docket No. 09-9185-MR]—Failed to submit the annual recertification fee; the Executed Yearly Verification Report; and an acceptable audited financial statement(s) and supplementary reports through LASS;

48. Pacific Community Mortgage, Inc., Anaheim, CA [Docket No. 09-9580-MR]—Failed to submit the annual recertification fee; and the Executed Title II Yearly Verification Report;

49. Pacific Crest Mortgage Corporation, Cathedral City, CA [Docket No. 09-9121-MR]—Failed to submit the annual recertification fee; the Executed Yearly Verification Report; and an acceptable audited financial statement(s) and supplementary reports through LASS;

50. Pacifica Direct, LLC, Encino, CA [Docket No. 09-9234-MR]—Failed to submit the Executed Yearly Verification Report; and an acceptable audited financial statement(s) and supplementary reports through LASS;

51. Pacifica West Financial, LLC, Carlsbad, CA [Docket No. 09-9082-MR]—Failed to submit an acceptable audited financial statement(s) and supplementary reports through LASS;

52. Penn Federal Savings Bank, Newark, NJ—Failed to submit the annual recertification fee; and the Executed Title II Yearly Verification Report;

53. Prime Cap Financial, LLC, Henderson, NV [Docket No. 09-9020-MR]—Failed to submit the annual recertification fee; the Executed Title II Yearly Verification Report; and an acceptable audited financial statement(s) and supplementary reports into LASS;

54. RC Lending, LLC., Plano, TX [Docket No. 09-9096-MR]—Failed to submit an acceptable audited financial statement(s) and supplementary reports through LASS;

55. Regency Mortgage Corporation, Salt Lake City, UT [Docket No. 09-9103-MR]—Failed to submit the annual recertification fee; the Executed Title II Yearly Verification Report; and an acceptable audited financial statement(s) and supplementary reports through LASS;

56. S and L Capital Group, Inc., Sarasota, FL [Docket No. 09-9063-MR]—Failed to submit the annual recertification fee; the Executed Yearly Verification Report; and an acceptable audited financial statement(s) and supplementary reports through LASS;

57. SFG Bancorp, dba Piggybank Home Loans, Pleasanton, CA [Docket No. 09-9232-MR]—Failed to submit the annual recertification fee; the Executed Yearly Verification Report; and an acceptable audited financial statement(s) and supplementary reports through LASS;

58. Schreiber Financial Group, Ltd., Naperville, IL [Docket No. 09-9047-MR]—Failed to submit the annual recertification fee; the Executed Yearly Verification Report and an acceptable audited financial statement(s) and supplementary reports through LASS;

59. Secure Bankers Mortgage Company, Van Nuys, CA [Docket No. 09-9584-MR]—Failed to submit the annual recertification fee; the Executed Yearly Verification Report; and an acceptable audited financial statement(s) and supplementary reports through LASS;

60. Shasta Financial Services, Inc., Elk Grove, CA [Docket No. 09-9583-MR]—Failed to submit the annual recertification fee; the Executed Title II Yearly Verification Report; and an acceptable audited financial statement(s) and supplementary reports through LASS;

61. Southstar Funding, LLC, Atlanta, GA [Docket No. 09-9585-MR]—Failed to submit the annual recertification fee; the Executed Title II Yearly Verification Report; and an acceptable audited financial statement(s) and supplementary reports through LASS;

62. Stirling Mortgage Corporation, Salt Lake City, UT [Docket No. 09-9007-MR]—Failed to submit the annual recertification fee; the Executed Yearly Verification Report; and an acceptable audited financial statement(s) and supplementary reports through LASS;

63. STS Capital Holding, Inc., Tampa, FL [Docket No. 09-9180-MR]—Failed to submit an acceptable audited financial statement(s) and supplementary reports through LASS;

64. Superior Mortgage Corporation, South Hill, VA [Docket No. 09-9252-MR]—Failed to submit an acceptable audited financial statement(s) and supplementary reports through LASS;

65. Swan Investment International, Covina, CA [Docket No. 09-9586-MR]—Failed to submit the annual recertification fee; the Executed Title II Yearly Verification Report; and an acceptable audited financial statement(s) and supplementary reports through LASS;

66. The Loan Office, Inc., Fort Lauderdale, FL [Docket No. 09-09-9587-MR]—Failed to submit an acceptable audited financial statement(s) and supplementary reports through LASS;

67. Thumb Butte Mortgage, Inc., Prescott, AZ [Docket No. 09-9227-MR]—Failed to submit an acceptable audited financial statement(s) and supplementary reports through LASS;

68. Titan Capital Funding, Inc., Midvale, UT [Docket No. 09-9588-MR]—Failed to submit the annual recertification fee; the Executed Title II Yearly Verification Report; and an acceptable audited financial statement(s) and supplementary reports through LASS;

69. Trendstar Mortgage, LLC, Camp Springs, MD [Docket No. 09-9149-MR]—Failed to submit an acceptable audited financial statement(s) and supplementary reports through LASS;

70. United Capital, Inc., Knoxville, TN [Docket No. 09-9151-MR]—Failed to submit the annual recertification fee; and the Executed Yearly Verification Report; and

71. Virgin Islands Community Bank, Christiansted, VI [Docket No. 09-9287-MR]—Failed to submit the annual recertification fee; and the Executed Yearly Verification Report.

B. Board Letter Issued January 16, 2009

1. Lakeview Mortgage Corporation, Chicago, IL [Docket No. 09-9317-MR]—Failed to submit the annual recertification fee; the Executed Yearly Verification Report; and an acceptable audited financial statement(s) and supplementary reports through LASS.

III. Lenders Who Failed To Meet Requirements for Annual Recertification of HUD/FHA Approval

Action: The Board issued a letter to each of the lenders listed below withdrawing their FHA approval for one year.

Cause: The Board took this action based on the following violations of HUD/FHA requirements in which:

A. Board Letters Issued January 9, 2009

1. Balboa Reinsurance Company, Simi Valley, CA [Docket No. 09-9219-MR]—Failed to submit the annual recertification fee; and the Executed Title II Yearly Verification Report;

2. Bank Reale, Pasco, WA [Docket No. 09-9213-MR]—Failed to submit the annual recertification fee; and the Executed Title II Yearly Verification Report;

3. Common Cents Mortgage, Inc. [Docket No. 09-9036-MR]—Failed to submit the annual recertification fee; and the Executed Title II Yearly Verification Report;

4. Cooperative De Ahorro Y Credito Caribe, Guayanilla, PR [Docket No. 09-9085-MR]—Failed to submit the annual recertification fee; and the Executed Title II Yearly Verification Report;

5. First State Bank & Trust, Caruthersville, MO [Docket No. 09-9159-MR]—Failed to submit the annual recertification fee; and the Executed Title II Yearly Verification Report;

6. Harper & Associates, Inc., Cabot, AR [Docket No. 09-9014-MR]—Failed to submit an acceptable audited financial statement(s) and supplementary reports through LASS;

7. Infinity Lending Group, Tustin, CA [Docket No. 09-9220-MR]—Failed to submit the annual recertification fee; and the Executed Title II Yearly Verification Report;

8. Key Mortgage Corporation, Coeur D Alene, ID [Docket No. 09-9051-MR]—Failed to submit the annual recertification fee; the Executed Title II Yearly Verification Report; and an acceptable audited financial statement(s) and supplementary reports through LASS;

9. Level 1 Mortgage, LLC, Littleton, CO [Docket No. 09-9011-MR]—Failed to submit the annual recertification fee; the Executed Title Yearly Verification Report and an acceptable audited financial statement(s) and supplementary reports through LASS;

10. Paramount Residential Mortgage Group, Inc., Corona, CA [Docket No. 09-9043-MR]—Failed to submit the annual recertification fee; and the Executed Title II Yearly Verification Report;

11. New Horizon RE, Inc. dba JL Mortgage, Columbia, SC [Docket No. 09-9009-MR]—Failed to submit an acceptable audited financial statement(s) and supplementary reports through LASS;

12. San Diego Loans, dba SDLoans.com, San Diego, CA [Docket No. 09-9022-MR]—Failed to submit the annual recertification fee; the executed Yearly Verification Report; and an acceptable audited financial statement(s) and supplementary reports through LASS;

13. Sun National Bank, Vineland, NJ [Docket No. 09-9091-MR]—Failed to submit the annual recertification fee; and the Executed Yearly Verification Report;

14. The Bank of Fayetteville, Fayetteville, AR [Docket No. 9246-MR]—Failed to submit the annual recertification fee; and the Executed Title II Yearly Verification Report;

15. The Residential Mortgage Group, Inc., Wakefield, MA [Docket No. 09-9152-MR]—Failed to submit an acceptable audited financial statement(s) and supplementary reports through LASS;

16. TLP Funding, Calabasa, CA [Docket No. 09-9228-MR]—Failed to submit an acceptable audited financial statement(s) and supplementary reports through LASS;

17. Viva Advisor Group, Inc., Cincinnati, OH [Docket No. 09-9202-MR]—Failed to submit the annual recertification fee; the Executed Yearly Verification Report; and an acceptable audited financial statement(s) and supplementary reports through LASS; and

18. West Union Bank, West Union, WV [Docket No. 09-9064-MR]—Failed to submit the annual recertification fee; and the Executed Yearly Verification Report.

B. Board Letters Issued January 16, 2009

Action: The Board issued a letter to each of the lenders listed below withdrawing their HUD/FHA approval for one year.

Cause: The Board took this action based on the following violations of HUD/FHA requirements in which:

1. B & T Mortgage, Inc, Glendale, AZ [Docket No. 09-9211-MR]—Failed to submit the annual recertification fee; and the Executed Yearly Verification Report;

2. Citibank NA, New York, NY [Docket No. 09-9294-MR]—Failed to submit the annual recertification fee; and the Executed Yearly Verification Report;

3. Corstar Financial, Inc., Phoenix, AZ [Docket No. 09-9386-MR]—Failed to submit an acceptable audited financial statement(s) and supplementary reports through LASS;

4. EAI Financial Group, Inc., Plymouth, MA [Docket No. 09-9331-MR]—Failed to submit the Statement on Auditing Standards 29 opinion on the Financial Data Template; and the type of audit opinion issued was a qualified opinion: scope limitation—imposed by management;

5. Eastern Financial Home Loans, Corporation, Hialeah, FL [Docket No. 09-9279-MR]— Failed to submit the annual recertification fee, and the Executed Yearly Verification Report; and

6. First National Bank Pine City, Pine City, MN [Docket No. 09-9235-MR]—Failed to submit the annual recertification fee, and the Executed Yearly Verification Report.

Dated: April 3, 2009.
Brian D. Montgomery,
Assistant Secretary for Housing—Federal Housing Commissioner.

[FR Doc. E9-9731 Filed 4-28-09; 8:45 am]

BILLING CODE 4210-67-P